DEPARTMENT OF TRANSPORTATION

Research and Special Programs Administration

[Docket RSPA-98-4957; Notice 04-01]

Request for Extension of Existing Information Collection

AGENCY: Research and Special Programs Administration, DOT.

ACTION: Request for OMB approval and public comments.

SUMMARY: As required by the Paperwork Reduction Act of 1995, the Research and Special Programs Administration (RSPA) is publishing this notice seeking public comments on a proposed renewal of an information collection for Incorporation by Reference of Industry Standard on Leak Detection. This information collection requires hazardous liquid pipeline operators who have leak detection systems to maintain records of those systems.

DATES: Comments on this notice must be received no later than March 15, 2004 to be assured of consideration.

ADDRESSES: You must identify the docket number RSPA-98-4957; Notice 04-01 at the beginning of your comments. Comments can be mailed to the U.S. Department of Transportation, Dockets Facility, Plaza 401, 400 Seventh St., SW., Washington, DC 20590. Comments can also be sent by e-mail to dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Marvin Fell, Office of Pipeline Safety, Research and Special Programs Administration, Department of Transportation, 400 Seventh Street, SW., Washington, DC 20950, (202) 366-6205 or by electronic mail at marvin.fell@rspa.dot.gov.

SUPPLEMENTARY INFORMATION: Title: Incorporation by Reference of Industry Standard on Leak detection.

OMB Number: 2137-0598.

Type of Request: Extension of an existing information collection.

Respondents: Hazardous liquid pipeline operators that use computational monitoring systems (CPM's) for leak detection.

Estimate of Burden: 2 hours per operator.

Estimated Number of Responses per Respondent: 1.

Estimated Total Burden : 100 hours.

Estimated Number of Respondents: 50.

Abstract: Pipeline safety regulations do not require hazardous liquid pipeline operators to have computer-based leak detection systems. However, if these operators choose to acquire such software-based leak detection systems they must adhere to the American Petroleum Institute API 1130 when operating, maintaining and testing their existing software-based leak detection systems. The testing information of these systems must be maintained by hazardous liquid pipeline operators.

Copies of this information collection can be reviewed at the Dockets Facility, Plaza 401, U.S. Department of Transportation, 400 Seventh Street, SW., Washington, DC 20590 from 9 a.m. to 5 p.m. Monday through Friday except Federal holidays. They also can be viewed via the Internet at http://dms.dot.gov.

Comments are invited on: (a) The need for the proposed collection of information for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including the use of appropriate automated, electronic, mechanical, or other technological collection techniques. Send written comments in duplicate to Dockets Facility, Plaza 401, U.S. Department of Transportation, 400 Seventh St., SW., Washington, DC 20590. Please reference the docket number of this notice (RSPA-98-4957; Notice 04-01) when submitting your comments. Comments can also be sent electronically to dms.dot.gov.

Issued in Washington, DC, on January 7, 2004.
James K. O'Steen,
Deputy Associate Administrator for Pipeline Safety.

[FR Doc. 04-638 Filed 1-12-04; 8:45 am]

BILLING CODE 4910-60-P